DEPARTMENT OF COMMERCE

International Trade Administration

[C-580-842]

Notice of Countervailing Duty Order: Structural Steel Beams From the Republic of Korea

AGENCY: Import Administration, International Trade Administration, Department of Commerce.

EFFECTIVE DATE: August 14, 2000.

FOR FURTHER INFORMATION CONTACT: Eric B. Greynolds or Tipten Troidl, Office of AD/CVD Enforcement VI, Import Administration, U.S. Department of Commerce, Room 4012, 14th Street and Constitution Avenue, N.W., Washington, D.C. 20230; telephone (202) 482-2786.

The Applicable Statute and Regulations

Unless otherwise indicated, all citations to the statute are references to the provisions effective January 1, 1995, the effective date of the amendments made to the Tariff Act of 1930 (“the Act”) by the Uruguay Round Agreements Act (“URAA”). In addition, unless otherwise indicated, all citations to the Department of Commerce (“the Department) regulations refer to the regulations codified at 19 CFR part 351 (2000).

Scope of Order

The products covered are doubly-symmetric shapes, whether hot- or cold-rolled, drawn, extruded, formed or finished, having at least one dimension of at least 80 mm (3.2 inches or more), whether of carbon or alloy (other than stainless) steel, and whether or not drilled, punched, notched, painted, coated, or clad. These products (Structural Steel Beams) include, but are not limited to, wide-flange beams (W shapes), bearing piles (HP shapes), standard beams (S or I shapes), and M-shapes.

All products that meet the physical and metallurgical descriptions provided above are within the scope of this order unless otherwise excluded. The following products, are outside and/or specifically excluded from the scope of this order: Structural steel beams greater than 400 pounds per linear foot or with a web or section height (also known as depth) over 40 inches.

The merchandise subject to this order is classified in the Harmonized Tariff Schedule of the United States (HTSUS) at subheadings: 7216.32.0000, 7216.33.0030, 7216.33.0060, 7216.33.0090, 7216.50.0000, 7216.61.0000, 7216.69.0000, 7216.91.0000, 7216.99.0000, 7228.70.3040, 7228.70.6000.

Although the HTSUS subheadings are provided for convenience and Customs purposes, the written description of the merchandise in this order is dispositive.

Countervailing Duty Order

In accordance with section 705(d) of the Act, on July 3, 2000, the Department published in the Federal Register its final affirmative determination in the countervailing duty investigation of structural steel beams from the Republic of Korea (65 FR 41051). On August 4, 2000, the International Trade Commission (“ITC”) notified the Department of its final determination, pursuant to section 705(b)(1)(A)(i) of the Act, that an industry in the United States is materially injured or threatened with material injury by reason of imports of certain structural steel beams from the Republic of Korea.

Therefore, countervailing duties will be assessed on all unliquidated entries of structural steel beams from the Republic of Korea entered, or withdrawn from warehouse, for consumption on or after July 3, 2000, the date on which the Department published its final affirmative countervailing duty determinations in the Federal Register.

On or after the date of publication of this notice in the Federal Register, U.S. Customs officers must require, at the same time as importers would normally deposit estimated duties on this merchandise, a cash deposit equal to the countervailable subsidy rates noted below. The All Others rates apply to all producers and exporters of structural steel beams from the Republic of Korea not specifically listed below. The cash deposit rates are as follows:

Company | Net subsidy rate (percent)
Kangwon Industries Ltd | ¹ 3.88
Dongkuk Steel Mill Co., Ltd | ¹ 1.34
All Others Rate | ¹ 3.87
¹ Ad valorem.

The steel producer Inchon Iron & Steel Co., Ltd. is excluded from the suspension of liquidation because it received a de minimis net subsidy of 0.15 percent ad valorem.

This notice constitutes the countervailing duty order with respect to structural steel beams from the Republic of Korea, pursuant to section 706(a) of the Act. Interested parties may contact the Central Records Unit, for copies of an updated list of countervailing duty orders currently in effect.

This countervailing duty order is published in accordance with section 706(a) of the Act and 19 CFR 351.211.

Dated: August 8, 2000.
Troy H. Cribb,
Acting Assistant Secretary for Import Administration.

[FR Doc. 00-20560 Filed 8-11-00; 8:45 am]

BILLING CODE 3510-DS-P